DEPARTMENT OF ENERGY

Federal Energy Regulatory Commission

[EG11-8-000, EG11-9-000, EG11-10-000, et al.]

Notice of Effectiveness of Exempt Wholesale Generator Status

| Docket No.
Cedar Creek II, LLC | EG11-8-000
PSEG New Haven LLC | EG11-9-000
AES Laurel Mountain, LLC | EG11-10-000
Community Wind North, LLC | EG11-11-000
Community Wind North 1 LLC | EG11-12-000
Community Wind North 2 LLC | EG11-13-000
Community Wind North 3 LLC | EG11-14-000
Community Wind North 5 LLC | EG11-15-000
Community Wind North 6 LLC | EG11-16-000
Community Wind North 7 LLC | EG11-17-000
Community Wind North 8 LLC | EG11-18-000
Community Wind North 9 LLC | EG11-19-000
Community Wind North 10 LLC | EG11-20-000
Community Wind North 11 LLC | EG11-21-000
Community Wind North 13 LLC | EG11-22-000
Community Wind North 15 LLC | EG11-23-000
Duke Energy Fayette II, LLC | EG11-24-000
Duke Energy Hanging Rock II, LLC | EG11-25-000
Duke Energy Lee II, LLC | EG11-26-000
Duke Energy Vermillion II, LLC | EG11-27-000
Duke Energy Washington II, LLC | EG11-28-000
Snowflake Power, LLC | EG11-29-000
Evergreen Wind Power III, LLC | EG11-30-000
Paradise Solar Urban Renewal, LLC | EG11-31-000
Red Mesa Wind, LLC | EG11-32-000
Covanta Burnaby Renewable Energy, Inc | FC11-1-000
Starwood Solar V, LLC | FC11-2-000

Take notice that during the month of January 2011, the status of the above-captioned entities as Exempt Wholesale Generators or Foreign Utility Companies became effective by operation of the Commission's regulations. 18 CFR 366.7(a).

Dated: February 14, 2011.
Kimberly D. Bose,
Secretary.

[FR Doc. 2011-3810 Filed 2-18-11; 8:45 am]

BILLING CODE 6717-01-P